ENVIRONMENTAL PROTECTION AGENCY

[FRL OP-OFA-123]

Environmental Impact Statements; Notice of Availability

Responsible Agency: Office of Federal Activities, General Information 202-564-5632 or https://www.epa.gov/nepa.

Weekly receipt of Environmental Impact Statements (EIS)

Filed April 15, 2024 10 a.m. EST Through April 22, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240073, Final, BLM, AK, Central Yukon Resource Management Plan, Review Period Ends: 05/28/2024, Contact: Melinda Bolton 907-271-3342.

EIS No. 20240074, Final Supplement, BLM, AK, Ambler Road Final Supplemental Environmental Impact Statement, Review Period Ends: 05/28/2024, Contact: Stacie McIntosh 907-474-2398.

Dated: April 22, 2024.
Cindy S. Barger,
Director, NEPA Compliance Division, Office of Federal Activities.

[FR Doc. 2024-08972 Filed 4-25-24; 8:45 am]

BILLING CODE 6560-50-P